DEPARTMENT OF COMMERCE

Foreign-Trade Zones Board

[Docket 43-2001]

Foreign-Trade Zone 146—Lawrence County, IL; Application for Subzone Expansion-Subzone 146A, North American Lighting, Inc., Facilities, Flora and Salem, Illinois (Automotive Lighting Products)

An application has been submitted to the Foreign-Trade Zones Board (the Board) by the Bi-State Authority, grantee of FTZ 146, requesting authority on behalf of North American Lighting, Inc. (NAL), operator of FTZ 146A, at the NAL automotive lighting products manufacturing facilities in Flora and Salem, Illinois, to expand FTZ Subzone 146A to include a new site in Paris, Illinois, and requesting authority to expand the scope of FTZ authority to include new manufacturing capacity under FTZ procedures. The application was submitted pursuant to the provisions of the Foreign-Trade Zones Act, as amended (19 U.S.C. 81a-81u), and the regulations of the Board (15 CFR part 400). It was formally filed on October 31, 2001.

Subzone 146A was approved by the Board in 1988 with authority granted for the manufacture of automotive lighting components and other related auto parts at NAL's manufacturing facilities (355,000 sq.ft./14 acres) in Flora, Illinois (Site 1) (Board Order 371, 53 FR 5436, 2-24-88). The subzone was subsequently reorganized and expanded to include NAL's second manufacturing facility (380,000 sq.ft./22 acres) in the Salem Industrial Park, Salem, Illinois (Site 2) (Board Order 718, 60 FR 2375, 1-9-95). In January 2001, the Board approved an expansion of the scope of FTZ manufacturing authority up to 56 million units annually, with a concurrent expansion of the boundaries of Subzone 146A (Board Order 1142, 66 FR 8195, 1-30-01).

The applicant is now requesting authority to expand the subzone to include a new site, currently under construction, located at 2277 South Main in Paris (Edgar County), Illinois. Proposed Site 3 would include a 41-acre parcel within the Paris Industrial Park containing a 179,000 square foot automotive lighting product manufacturing facility (250 employees). Under the current expansion plan, the NAL facilities' production capacity will be almost doubled (to 100 million units per year) with the addition of up to 1.2 million square feet of production area within proposed Site 3. Activity at the new facility would be similar to existing production at the Salem and Flora sites, involving design, injection molding, plating and assembly of motor vehicle headlamps, rear combination lamps, high mount stop lamps, turn signals, dome and trunk lamps, fog lamps, side marker and license plate lamps using domestic and foreign-origin components. Foreign-sourced components and materials (about 19 percent of total purchases) include (with scope increase): various polymers and resins in primary form (HTSUS Ch. 39), articles of rubber and plastic, parts of lighting equipment, wiring harnesses, bulbs, gaskets/seals, fasteners, optical elements of glass, certain electrical apparatus (including motors, switches), springs, articles of copper, printed circuits, lamps and lenses, optical fiber and cable/bundles (duty rates: free −12.5%, 1.1¢/kg+2.9%).

FTZ procedures exempt NAL from Customs duty payments on the foreign components used in export production (16% of shipments). On its domestic sales (including NAFTA markets), the company is able to choose the duty rates that apply to finished automotive lighting equipment and parts (duty free, 2.5%) for the foreign components possessing higher duty rates. The auto duty rate (2.5%) applies if the finished lighting products are shipped via zone-to-zone transfer to U.S. motor vehicle assembly plants with subzone status. The request indicates that the savings from FTZ procedures will continue to help improve the facilities' international competitiveness.

In accordance with the Board's regulations, a member of the FTZ Staff has been designated examiner to investigate the application and report to the Board.

Public comment on the application is invited from interested parties. Submissions (original and three copies) shall be addressed to the Board's Executive Secretary at the following addresses:

1. Submissions via Express/Package Delivery Services: Foreign-Trade Zones Board, U.S. Department of Commerce, Franklin Court Building-Suite 4100W, 1099 14th Street, NW., Washington, DC 20005; or,

2. Submissions via the U.S. Postal Service: Foreign-Trade Zones Board, U.S. Department of Commerce, FCB-4100W, 1401 Constitution Ave., NW., Washington, DC 20230.

The closing period for their receipt is January 7, 2002. Rebuttal comments in response to material submitted during the foregoing period may be submitted during the subsequent 15-day period (to January 22, 2002).

A copy of the application will be available for public inspection at the Office of the Foreign-Trade Zones Board's Executive Secretary at address No.1 listed above and at the U.S. Department of Commerce Export Assistance Center, Suite 2440, 55 West Monroe Street, Chicago, IL 60603.

Dated: October 31, 2001.
Dennis Puccinelli,
Executive Secretary.

[FR Doc. 01-27978 Filed 11-6-01; 8:45 am]

BILLING CODE 3510-DS-P